DEPARTMENT OF ENERGY

Federal Energy Regulatory Commission

[Project No. 2203-015-AL]

Alabama Power Company; Notice of Availability of Environmental Assessment

In accordance with the National Environmental Policy Act of 1969 and the Federal Energy Regulatory Commission (Commission or FERC) regulations, 18 Code of Federal Regulations (CFR) part 380, the Office of Energy Projects has reviewed Alabama Power Company's application for a new license for the 46.9-megawatt (MW) Holt Hydroelectric Project (FERC Project No. 2203). The project is located at the U.S. Army Corps of Engineers' (Corps) Holt Lock and Dam on the Black Warrior River near the City of Tuscaloosa, in Tuscaloosa County, Alabama. The project occupies 36.81 acres of federal land administered by the Corps.

Staff has prepared an environmental assessment (EA) that analyzes the potential environmental effects of continued project operation. Based on staff's analysis with appropriate environmental protective measures, relicensing the project would not constitute a major federal action that would significantly affect the quality of the human environment.

A copy of the EA is on file with the Commission and is available for public inspection. The EA may also be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Comments should be filed within 30 days from the date of this notice. The Commission strongly encourages electronic filing. Please file comments using the Commission's eFiling system at http://www.ferc.gov/docs-filing/efiling.asp. For assistance, please contact FERC Online Support at FERCOnlineSupport@ferc.gov or toll-free at 1-866-208-3676, or for TTY, 202-502-8659. In lieu of electronic filing, please send a paper copy to: Secretary, Federal Energy Regulatory Commission, 888 First Street NE., Washington, DC 20426. The first page of any filing should include Holt Hydroelectric Project No. 2203-015.

For further information, contact Jeanne Edwards by telephone at 202-502-6181 or by email at jeanne.edwards@ferc.gov.

Dated: May 31, 2016.
Kimberly D. Bose,
Secretary.

[FR Doc. 2016-13354 Filed 6-6-16; 8:45 am]

BILLING CODE 6717-01-P